ENVIRONMENTAL PROTECTION AGENCY

[FRL-7102-8]

Agency Information Collection Activities: Submission for OMB Review; Comment Request; Standards of Performance for New Stationary Sources; Polymeric Coating of Supporting Substrates Facilities, Subpart VVV

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NSPS subpart VVV, Polymeric Coating of Supporting Substrates Facilities, OMB Control Number 2060-0181, expires December 31, 2001. The ICR describes the nature of the information collection and its expected burden and cost; where appropriate, it includes the actual data collection instrument.

DATES: Comments must be submitted on or before December 13, 2001.

ADDRESSES: Send comments, referencing EPA ICR No. 1284.06 and OMB Control No. 2060-0181, to the following addresses: Sandy Farmer, U.S. Environmental Protection Agency, Collection Strategies Division (Mail Code 2822), 1200 Pennsylvania Avenue, NW.,Washington, DC 20460; and to Office of Information and Regulatory Affairs, Office of Management and Budget (OMB), Attention: Desk Officer for EPA, 725 17th Street, NW., Washington, DC 20503.

FOR FURTHER INFORMATION CONTACT: For a copy of the ICR contact Susan Auby at EPA by phone at (202) 260-4901, by E-mail at auby.susan@epamail.epa.gov, or download off the Internet at http://www.epa.gov/icr and refer to EPA ICR No. 1284.06. For technical questions about the ICR contact Steven Hoover at (202) 564-7007.

SUPPLEMENTARY INFORMATION: Title: NSPS subpart VVV, Polymeric Coating of Supporting Substrates Facilities, (OMB Control No. 2060-0181; EPA ICR No. 1284.06), expiring 12/31/2001. This is a request for extension of a currently approved collection.

Abstract: All data in this ICR that is recorded and reported is required by 40 CFR part 60 subpart VVV. The monitoring and record keeping requirements include: maintain records of startups, shutdowns, malfunctions, periods where the continuous monitoring system is inoperative (60.7(b)), and of all measurements including performance test measurements, operating parameters of monitoring device results for catalytic or thermal incinerator, carbon adsorption system, condensation system, vapor capture system and/or total enclosure (60.744(c-h)); and monitor actual 12-month volatile organic compounds (VOC) use and make semi-annual estimate of projected VOC use, if affected facility uses less than 95 Mg/year of VOC or is subject to provisions specified in 60.742(c)(3) and other information required by this part recorded in a permanent file suitable for inspection. The file shall be retained for at least two years.

Following notification of startup, the reviewing authority might inspect the source to check if the pollution control devices are properly installed and operated. Performance test reports are used by the Agency to discern a source's initial capability to comply with the emission standard, and note the operating conditions specified above under which compliance was achieved. Data obtained during periodic visits by Agency personnel from records maintained by the respondents are tabulated and published for internal Agency use in compliance and enforcement programs. The semiannual reports are used for problem identification, as a check on source operation and maintenance, and for compliance determinations.

The required information consisting of emissions data and other information have been determined not to be private. However, any information submitted to the Agency for which a claim of confidentiality is made will be safeguarded according to the Agency policies. An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on September 15, 2000, (65 FR 5955). No comments were received.

Burden Statement: The annual public reporting and record keeping burden for this collection of information is estimated to average 83 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners/operators of Polymeric Coating plants.

Estimated Number of Respondents: 56.

Frequency of Response: Annual and semiannual when a source has excess emissions.

Estimated Total Annual Hour Burden: 14,366 hours.

Estimated Total Annualized Capital, O&M Cost Burden: $563,300.

Send comments on the Agency's need for this information, the accuracy of the provided burden estimates, and any suggested methods for minimizing respondent burden, including through the use of automated collection techniques to the addresses listed above. Please refer to EPA ICR No. 1284.06 and OMB Control No. 2060-0181 in any correspondence.

Dated: November 1, 2001.
Oscar Morales,
Director, Collection Strategies Division.

[FR Doc. 01-28348 Filed 11-9-01; 8:45 am]

BILLING CODE 6560-50-P